DEPARTMENT OF ENERGY

Federal Energy Regulatory Commission

[Docket No. CP06-370-000]

Minnesota Energy Resources Corporation; Notice of Application

June 14, 2006.

Take notice that on May 31, 2006, Minnesota Energy Resources Corporation (“MERC”), 700 North Adams Street P.O. Box 19001 Green Bay, WI 54307-9001, filed in Docket No. CP06-370-000, an abbreviated application pursuant to section 7(f) of the Natural Gas Act requesting the determination of a service area within which MERC may, without further commission authorization, enlarge or expand its natural gas distribution facilities. MERC also requests: (i) A finding that MERC qualifies as a local distribution company (“LDC”) for purposes of section 311 of the Natural Gas Policy Act of 1978 (“NGPA”); (ii) a waiver of the Commission's accounting and reporting requirements and other regulatory requirements ordinarily applicable to natural gas companies under the NGA and NGPA; and (iii) such further relief as the Commission may deem appropriate, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Karl Hoesly, Minnesota Energy Resources Corporation c/o WPS Resources Corporation, 700 North Adams Street P.O. Box 19001 Green Bay, WI 54307-9001; (920) 433-1464 (telephone) or (920) 433-5734 (fax), KJHoesly@wpsr.com or Elizabeth W. Whittle, Nixon Peabody, L.L.P., 401 Ninth Street, NW., Suite 900 Washington, DC 20004; 202-585-8338 (telephone) or 202-585-8080 (fax), ewhittle@nixonpeabody.com.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the Internet in lieu of paper. See 18 CFR 385.2001(a)(1)(iii) and the instructions on the Commission's Web site (http://www.ferc.gov) under the “e-Filing” link.

Comment Date: 5 p.m. Eastern Time on June 26, 2006.

Magalie R. Salas,
Secretary.

[FR Doc. E6-9794 Filed 6-20-06; 8:45 am]

BILLING CODE 6717-01-P